DEPARTMENT OF ENERGY

Energy Information Administration

Agency Information Collection Activities: Proposed Collection; Comment Request

AGENCY: Energy Information Administration (EIA), Department of Energy (DOE).

ACTION: Agency information collection activities: Proposed collection; comment request.

SUMMARY: The Energy Information Administration (EIA) is soliciting comments on the proposed three-year extension to the Form EIA-28, “Financial Reporting System (FRS).”

DATES: Written comments must be filed by April 7, 2006. If you anticipate difficulty in submitting comments within that period, contact the person identified below as soon as possible.

ADDRESSES: Comments should be directed to Gregory P. Filas of EIA. To ensure receipt of the comments by the due date, submission by Fax (202-586-9753) or e-mail (greg.filas@eia.doe.gov) is recommended. Mr. Filas' mailing address is Energy Information Administration (EI-62), Financial Analysis Team, Forrestal Building, U.S. Department of Energy, Washington, DC 20585. Mr. Filas may be telephoned at (202) 586-1347.

FOR FURTHER INFORMATION CONTACT: Requests for additional information or copies of the form and instructions should be directed to Mr. Filas at the address listed above.

SUPPLEMENTARY INFORMATION:

I. Background

II. Current Actions

III. Request for Comments

I. Background

The Federal Energy Administration Act of 1974 (Pub. L. No. 93-275, 15 U.S.C. 761 et seq.), and the Department of Energy Organization Act (Pub. L. No. 95-91, 42 U.S.C. 7101 et seq.), require the Energy Information Administration (EIA) to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under Section 3507(h) of the Paperwork Reduction Act of 1995.

Under Public Law 95-91, section 205(h), the Administrator of the EIA is required to “identify and designate” the major energy companies who must annually file Form EIA-28 to ensure that the data collected provide “a statistically accurate profile of each line of commerce in the energy industry in the United States.” Data collected on Form EIA-28 are published and used in analyses of the energy industry.

II. Current Actions

EIA is proposing a three-year extension with changes to the previously approved Form EIA-28 for the FRS survey to be conducted in 2007 collecting information for 2006.

U.S. major energy companies report financial and operating information to the FRS survey each year on a consolidated corporate level, by individual lines of business, by major functions within each line of business, and by various geographic regions. From this information, EIA produces the annual publication Performance Profiles of Major Energy Producers. The data are also used for analyses and inquiries concerning earnings, profitability, investments, production and refining costs, reserve growth, and other issues related to the financial performance of major energy producers.

In 2004, EIA expanded the form to include the downstream natural gas and electric power lines of business. The expanded form increased the time and cost of processing the additional data. In addition, some of the new questions required very detailed information from the operational units of the FRS respondent companies, which increased the time required for companies to compile data for the form.

After working with the expanded form for two years, EIA reviewed the detailed elements of the form and the responses and is proposing to reduce the scope of the data collected in the downstream natural gas and electric power sections of the Form EIA-28. The reductions will eliminate some of the intra-line of business flows and some detailed operating information, which will allow for more streamlined processing of the data and more effective use of resources, including providing more focus on information about profits, profitability, investment, and operating costs in these lines of business. Reducing the scope of the survey will also reduce the reporting burden on the survey respondents.

The proposed modifications include elimination of Schedule 5341, “Domestic Coal Operations, Reserves and Production Statistics,” Schedule 5750, “Eliminations in Consolidation” for Downstream Natural Gas, and Schedule 5850, “Eliminations in Consolidation” for Electric Power. The following schedules for the downstream natural gas and electric power lines of business will be reduced in scope:

• Schedule 5711, Downstream Natural Gas Operating Expenses,

• Schedule 5712, Purchases and Sales of Natural Gas and Natural Gas Liquids,

• Schedule 5741, Downstream Natural Gas Capacity Measures, and Downstream Natural Gas Output Measures, and all of the Electric Power schedules, including:

• Schedule 5810, Consolidating Statement of Income,

• Schedule 5811, Electric Power Operating Expenses,

• Schedule 5812, Purchases and Sales of Fuel and Electric Power.

• Schedule 5841, Electric Power Capacity and Output Statistics.

Copies of the proposed new schedules and the instructions are available from Mr. Filas.

III. Request for Comments

Prospective respondents and other interested persons are invited to comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the Form EIA-28 instructions and definitions clear and sufficient? If not, which instructions require clarification?

C. Can information be submitted by the due date?

D. Public reporting burden for the Form EIA-28 collection, including proposed changes, is estimated to average 450 hours per response. The estimated burden includes the total time, effort, or financial resources expended to generate, maintain, retain, disclose and provide the information. In your opinion, how accurate is this estimate?

E. The agency estimates that the only cost to a respondent is for the time it will take to complete the collection. Will a respondent incur any start-up costs for reporting, or any recurring costs for operation maintenance, and purchases of services associated with the information collection?

F. What additional actions could be taken to minimize the burden of this collection of information? Such actions may involve the use of automated, electronic, mechanical, or other technological collection techniques or other forms of information technology.

G. Does any other Federal, State, or local agency collect similar information? If so, specify the agency, the data element(s), and the method(s) of collection.

As a Potential User of the Information to be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC, January 31, 2006.
Jay H. Casselberry,
Agency Clearance Officer, Energy Information Administration.

[FR Doc. E6-1564 Filed 2-3-06; 8:45 am]

BILLING CODE 6450-01-P